FEDERAL COMMUNICATIONS COMMISSION

[FR ID 75169]

Open Commission Meeting Wednesday, March 16, 2022

The Federal Communications Commission will hold an Open Meeting on the subjects listed below on Wednesday, March 16, 2022, which is scheduled to commence at 10:30 a.m. Due to the current COVID-19 pandemic and related agency telework and headquarters access policies, this meeting will be in an electronic format and will be open to the public only on the internet via live feed from the FCC's web page at www.fcc.gov/live and on the FCC's YouTube channel.

Item No. | Bureau | Subject
1 | WIRELINE COMPETITION | Title: Preventing Digital Discrimination (GN Docket No. 22-69).
|  | Summary: The Commission will consider a Notice of Inquiry that would commence a proceeding to prevent and eliminate digital discrimination and ensure that all people of the United States benefit from equal access to broadband internet access service, consistent with Congress's direction in the Infrastructure Investment and Jobs Act.
2 | WIRELINE COMPETITION | Title: Resolving Pole Replacement Disputes (WC Docket No. 17-84).
|  | Summary: The Commission will consider a Second Further Notice of Proposed Rulemaking that would seek comment on questions concerning the allocation of pole replacement costs between utilities and attachers and ways to expedite the resolution of pole replacement disputes.
3 | WIRELINE COMPETITION | Title: Selecting Final Round of Applicants for Connected Care Pilot Program (WC Docket No. 18-213).
|  | Summary: The Commission will consider a Public Notice announcing the fourth and final round of selections for the Commission's Connected Care Pilot Program to provide Universal Service Fund support for health care providers making connected care services available directly to patients.
4 | MEDIA | Title: Restricted Adjudicatory Matter.
|  | Summary: The Commission will consider a restricted adjudicatory matter.
5 | INTERNATIONAL | Title: National Security Matter.
|  | Summary: The Commission will consider a national security matter.

* * * * *

The meeting will be webcast with open captioning at: www.fcc.gov/live. Open captioning will be provided as well as a text only version on the FCC website. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530.

Additional information concerning this meeting may be obtained from the Office of Media Relations, (202) 418-0500. Audio/Video coverage of the meeting will be broadcast live with open captioning over the internet from the FCC Live web page at www.fcc.gov/live.

Federal Communications Commission.
Dated: March 9, 2022.
Marlene Dortch,
Secretary.

[FR Doc. 2022-05458 Filed 3-14-22; 8:45 am]

BILLING CODE 6712-01-P